DEPARTMENT OF LABOR

Employment and Training Administration

[TA-W-70,575]

Amended Certification Regarding Eligibility To Apply for Worker Adjustment Assistance: Visteon Corp., Visteon Headquarters, et al.

In accordance with Section 223 of the Trade Act of 1974, as amended (“Act”), 19 U.S.C. 2273, the Department of Labor issued a Certification of Eligibility to Apply for Worker Adjustment Assistance on July 28, 2009, applicable to workers of Visteon Corporation, Visteon Headquarters, including Headquarter employees at Plymouth, Michigan site and on-site leased workers from MSX International and Manpower, Van Buren Township, Michigan. The notice was published in the Federal Register September 22, 2009 (74 FR 48303).

At the request of the State Agency and the company, the Department reviewed the certification for workers of the subject firm. The workers are engaged in the manufacturing of automotive systems. The Visteon Headquarter sites provide support services including research, engineering, manufacturing support, and administrative services such as purchasing, material planning and logistics, legal, human resources, finance, information technology and sales to their affiliated production sites.

The company reports that on-site leased workers from the above mentioned firms were employed on-site at the Van Buren Township, Michigan location of Visteon Corporation, Visteon Headquarters, including Headquarter Employees at the Plymouth, Michigan site. The Department has determined that these workers were sufficiently under the control of the subject firm to be considered leased workers.

Based on these findings, the Department is amending this certification to include workers leased from the above mentioned firms working on-site at the Van Buren Township, Michigan location of Visteon Corporation, Visteon Headquarters, including Headquarter Employees at the Plymouth, Michigan site.

The amended notice applicable to TA-W-70,575 is hereby issued as follows:

All workers of Visteon Corporation, Visteon Headquarters, including Headquarter employees at the Plymouth, Michigan site and on-site leased workers from MSX International, Manpower, Acro service Corp., Adecco, Inc., Aerotek, Inc., CDI Corp., Emergent Systems Corp., EnGenius, Inc., G-Tech Professional Staffing, Inc., Innovision Technologies, Inc., MEDA Technical Services, Inc., Midwest Labor Services, Inc., Talascend (formerly know as Modern Professional Services, Inc.), Rapid global Business Solutions, Inc., TempStaff, Inc., The Epitec Group, Trialon Corp., Webrunners, Inc., d/b/a W3R, Synetel, Inc., Computer Horizons Corp., Simmetrix, Inc., Mika Systems, Inc., Integrated Management Systems, Inc. (IMSI), Logica (bought out by Teledata Precision Design, Inc.), Sigma Technologies, Inc., Halo Group, LLC, Black Diamond Software, Ciber, Inc., Engineering Technology Associates, Inc., TAC Transportation, The Bartech Group, Manpower Temporary Services and Kelly Services, Inc., Van Buren Township, Michigan, who became totally or partially separated from employment on or after May 18, 2008, through July 28, 2011, and all workers in the group threatened with total or partial separation from employment on date of certification through two years from the date of certification, are eligible to apply for adjustment assistance under Chapter 2 of Title II of the Trade Act of 1974, as amended.

Signed at Washington, DC, this 13th day of October 2009.
Richard Church,
Certifying Officer, Division of Trade Adjustment Assistance.

[FR Doc. E9-25732 Filed 10-26-09; 8:45 am]

BILLING CODE 4510-FN-P